DEPARTMENT OF TRANSPORTATION

Federal Aviation Administration

Airworthiness Approval of Traffic Alert and Collision Avoidance Systems and Mode S Transponders

AGENCY: Federal Aviation Administration, DOT.

ACTION: Notice of availability and request for public comment.

SUMMARY: This notice announces the availability of and requests comments on a revised draft Advisory Circular (AC) 20-131B Airworthiness Approval of Traffic Alert and Collision Avoidance Systems (TCAS II) and Mode S Transponders. The draft AC provides guidance material for the airworthiness approval of Traffic Alert and Collision Avoidance Systems (TCAS II) certified to Technical Standard Order (TSO)—C119b and Mode S transponders.

DATES: Comments submitted must be received on or before June 26, 2002.

ADDRESSES: Send all comments on the proposed advisory circular to: Federal Aviation Administration (FAA), Aircraft Certification Service, Aircraft Engineering Division, Avionic Systems Branch, AIR-13, 800 Independence Avenue, SW., Washington, DC 20591. Or deliver comments to: Federal Aviation Administration, Room 815, 800 Independence Avenue, SW., Washington, DC 20591.

FOR FURTHER INFORMATION CONTACT: Mary Grice, Federal Aviation Administration (FAA), Aircraft Certification Service, Aircraft engineering Division, Avoionic Systems Branch AIR-130, 800 Independence Avenue SW, Washington, DC 20591, Telephone: (202) 267-9897, FAX: (202) 267-5340.

SUPPLEMENTARY INFORMATION:

Comments Invited

Interested persons are invited to comment on the draft AC listed in this notice by submitting such written data, views, or arguments, as they desire, to the aforementioned specified address. Comments must be marked “Comments to AC 20-131B.” Comments received on the draft advisory circular may be examined, both before and after the closing date, in Room 815, FAA Headquarters Building (FOB-10A), 800 Independence Avenue, S.W., Washington, DC 20591, weekdays except Federal holidays, between 8:30 a.m. and 4:30 p.m. all communications received on or before the closing date for comments specified will be considered by the Director of the Aircraft Certification Service before issuing the final AC.

Background

The FAA is developing a new Advisory Circular, AC 20-131B, Airworthiness Approval of Traffic Alert and Collision Avoidance Systems (TCAS II) and Mode S Transponders. This advisory circular (AC) provides guidance material for the airworthiness approval of Traffic Alert and Collision Avoidance systems (TCAS II) and Mode transponders. This revision to the current AC is prompted by the development of TCAS II version 7 and the publication of Technical Standard Order (TSO) C-119b, Traffic Alert and Collision Avoidance system (TCAS) Airborne Equipment, TCAS II, dated 18 December, 1998. At this time, there is no plan to mandate an upgrade of existing TCAS II units to version 7. TCAS II version 7 was developed to be interoperable with existing TCAS II version v6.04a equipment. Version 7 includes numerous software changes improving surveillance performance and providing other improved capabilities such as in multiple aircraft encounters. This AC also proposes a reduction or elimination of flight test requirements under certain conditions when upgrading existing TCAS II units.

How To Obtain Copies

A copy of the revised draft AC may be obtained via Internet, (http://www.faa.gov/avr/air/airhome.htm), or on request from the individual listed under FOR FURTHER INFORMATION CONTACT.

Issued in Washington, DC, on March 14, 2002.
John W. McGraw,
Acting Manager, Aircraft Engineering Division, Aircraft Certification Service.

[FR Doc. 02-7505 Filed 3-27-02; 8:45 am]

BILLING CODE 4910-13-M